DEPARTMENT OF COMMERCE

International Trade Administration

[A-570-930]

Circular Welded Austenitic Stainless Pressure Pipe From the People's Republic of China: Extension of the Time Limit for the Preliminary Results of the Antidumping Duty Administrative Review

AGENCY: Import Administration, International Trade Administration, Department of Commerce.

DATES: November 19, 2010.

FOR FURTHER INFORMATION CONTACT: Brandon Farlander and Patrick O'Connor, AD/CVD Operations, Import Administration, International Trade Administration, U.S. Department of Commerce, 14th Street and Constitution Avenue, NW., Washington, DC 20230, telephone: (202) 482-0182 and (202) 482-0989, respectively.

SUPPLEMENTARY INFORMATION: On April 27, 2010, the Department of Commerce (“the Department”) published in the Federal Register a notice of initiation of an administrative review of the antidumping duty order on circular welded austenitic stainless pressure pipe from the People's Republic of China. See Initiation of Antidumping and Countervailing Duty Administrative Reviews and Request for Revocation in Part, 75 FR 22107 (April 27, 2010). The period of review (“POR”) is September 5, 2008, through February 28, 2010.

Extension of Time Limit for Preliminary Results

Pursuant to section 751(a)(3)(A) of the Tariff Act of 1930, as amended (the “Act”), the Department shall make a preliminary determination in an administrative review of an antidumping duty order within 245 days after the last day of the anniversary month of the date of publication of the order. However, if it is not practicable to complete the review within this time period, section 751(a)(3)(A) of the Act allows the Department to extend the time period to a maximum of 365 days.

The Department is extending the preliminary results by 120 days because the Department needs additional time to analyze information pertaining to Zhejiang Jiuli Hi-Tech Metals Co., Ltd.'s (“Zhejiang Jiuli”) sales practices, factors of production, subject merchandise and corporate relationships. Therefore, in accordance with section 751(a)(3)(A) of the Act, the Department is extending the time period for completing the preliminary results of the instant administrative review by 120 days from December 1, 2010, until March 31, 2011. The final results continue to be due 120 days after the publication of the preliminary results.

This notice is published pursuant to sections 751(a) and 777(i) of the Act.

Dated: November 10, 2010.
Susan H. Kuhbach,
Acting Deputy Assistant Secretary for Antidumping and Countervailing Duty Operations.

[FR Doc. 2010-29267 Filed 11-18-10; 8:45 am]

BILLING CODE 3510-DS-P